ENVIRONMENTAL PROTECTION AGENCY

[AD-FRL-6940-2]

RIN 2060-AI52

National Emission Standards for Hazardous Air Pollutants: Revision of Source Category List and Schedule for Standards Under Section 112 of the Clean Air Act

AGENCY: Environmental Protection Agency (EPA).

ACTION: Notice of revisions to the list of categories of major and area sources.

SUMMARY: This notice publishes revisions to the list of categories of major and area sources for sources of hazardous air pollutants (HAP). Required under section 112(c) and (e) of the Clean Air Act (CAA), the source category list and schedule for standards constitute a significant part of EPA's agenda for regulating stationary sources of air toxics emissions. The list and schedule were most recently published in the Federal Register on November 18, 1999 (64 FR 63025).

Today's notice meets the requirement in section 112(c)(1) to publish periodically, but at least once every 8 years, a list of all categories of sources reflecting revisions since the initial list was published. Several of the revisions identified in today's notice have previously been published in actions associated with proposing and promulgating emission standards for individual source categories, and public comment has been taken in the context of those actions. Some of the revisions in today's notice have not been reflected in any previous notices and are being made without public comment on the Administrator's own motion. Such revisions are deemed by EPA to be without need for public comment based on the nature of the actions.

EFFECTIVE DATE: January 30, 2001.

ADDRESSES: Docket No. A-90-49, containing supporting information used in development of this notice, is available for public inspection and copying between 8 a.m. and 5:30 p.m., Monday through Friday, excluding legal holidays. The docket is located in EPA's Air and Radiation Docket and Information Center, Waterside Mall, Room M-1500, 401 M Street, SW., Washington, DC 20460, or by calling (202) 260-7548. A reasonable fee may be charged for copying docket materials.

FOR FURTHER INFORMATION CONTACT: Ms. Yvonne W. Johnson, Emission Standards Division (MD-13), U.S. EPA, Office of Air Quality Planning and Standards, Research Triangle Park, North Carolina 27711, telephone number (919) 541-2798, facsimile number (919) 541-0072, electronic mail address johnson.yvonnew@epa.gov.

SUPPLEMENTARY INFORMATION: Docket. The docket for this action is A-90-49. The docket is an organized file of all the information submitted to or otherwise relied upon by the Agency in the development of this revised list of source categories and revised schedule for standards. The principal purpose of the docket is to allow interested parties to identify and locate documents that serve as a record of the process engaged in by the Agency to publish today's revision to the initial list and schedule. The docket is available for public inspection at EPA's Air and Radiation Docket and Information Center, which is listed in the ADDRESSES section of this notice.

World Wide Web (WWW). In addition to being available in the docket, an electronic copy of today's notice will also be available on the WWW through the Technology Transfer Network (TTN). Following signature, a copy of the notice will be posted on the TTN's policy and guidance page for newly proposed or promulgated rules http://www.epa.gov/ttn/oarpg. The TTN provides information and technology exchange in various areas of air pollution control. If more information regarding the TTN is needed, call the TTN HELP line at (919) 541-5384.

I. What is the History of the Source Category List and Schedule?

The CAA requires, under section 112, that EPA list all categories of major sources emitting HAP and such categories of area sources warranting regulation, and promulgate national emission standards for hazardous air pollutants (NESHAP) to control, reduce, or otherwise limit the emissions of HAP from such categories of major and area sources. Pursuant to the various specific listing requirements in section 112(c), on July 16, 1992 (57 FR 31576), we published a list of 174 categories of major and area sources—referred to as the initial list—for which we would develop emission standards. On December 3, 1993 (58 FR 63941), pursuant to requirements in section 112(e), we published a schedule for the promulgation of emission standards for each of the 174 listed source categories.

When we publish notices that affect actions relating to individual source categories, it is important to reflect the resultant changes on the list and schedule. On June 4, 1996 (61 FR 28197), we published a notice that referenced all previous list and schedule changes and consolidated those actions, along with several new actions, into a revised source category list and schedule. Subsequently, we published three additional notices which updated the list and schedule: February 12, 1998 (63 FR 7155); May 17, 1999 (64 FR 26743); and November 18, 1999 (64 FR 63025). You should read these previous notices for information relating to the development of the initial list and schedule and subsequent changes.

II. Why is EPA Issuing This Notice?

This notice announces all list and schedule changes that have occurred since we last updated the list on November 18, 1999 (64 FR 63025). The changes and the affected source categories, are:

Changes to Source Category Names

• Leather Tanning and Finishing Operations

• Solvent Extraction for Vegetable Oil Production

• Petroleum Refineries—Catalytic Cracking, Catalytic Reforming Units, and Sulfur Recovery Units

• Municipal Solid Waste Landfills

• Publicly Owned Treatment Works (POTW)

Addition of Categories of Area Sources

• Hazardous Waste Incineration

• Portland Cement Manufacturing

• Secondary Aluminum Production

Deletion of Source Categories

• Alumina Processing

• Petroleum Dry Cleaners

• Coke By-Product Plants.

The source category list and promulgation schedule, updated to include today's actions as well as actions from previous notices, are presented in Table 1. Table 1 also includes Federal Register citations for notices related to the source categories (Table 1 omits proposal notices once a rule or rule amendment has been promulgated). Source categories for which revisions have been made in today's notice are annotated in Table 1 for ease in discerning where revisions have been made.

For general descriptions of source categories listed in Table 1, the reader is referred to “Documentation for Developing the Initial Source Category List” (EPA-450/3-91-030) and the Federal Register notice for the first revision of the source category list and schedule (61 FR 28197, June 4, 1996). For subsequent changes to descriptions of source categories for which a rule has been promulgated, the reader is advised to consult Table 1 for the citation of the Federal Register notice that includes the amended definition and corresponding rule applicability.

III. What Are the Revisions EPA Is Making to the Source Category List and Schedule?

The following sections describe revisions to the source category list since the November 18, 1999.

A. Changes to Source Category Names

We are renaming the following source categories so that the names better describe the source category:

1. “Leather Production” is renamed “Leather Tanning and Finishing Operations.”

2. “Vegetable Oil Production” is renamed “Solvent Extraction for Vegetable Oil Production.”

3. “Petroleum Refineries—Catalytic Cracking (Fluid and Other) Units, Catalytic Reforming Units, and Sulfur Plant Units'' is renamed to “Petroleum Refineries—Catalytic Cracking, Catalytic Reforming Units, and Sulfur Recovery Units.”

4. “Municipal Landfills” is renamed to “Municipal Solid Waste Landfills.”

5. “Publicly Owned Treatment Works (POTW) Emissions” is renamed to “Publicly Owned Treatment Works (POTW).”

B. Addition of Categories of Area Sources

The various authorities for listing and regulating area source categories under section 112 are all discretionary and/or require some sort of finding or determination by the Administrator. In the promulgated regulatory actions for hazardous waste incineration, portland cement production, and secondary aluminum production, we stated that major, as well as, affected area sources would be regulated. Today's notice merely reflects the addition of these three source categories as area sources on Table 1.

C. Deletion of Source Categories

The Administrator may, where appropriate, delete categories of sources on the Administrator's own motion or on petition. In today's notice, we are deleting three source categories—alumina processing, petroleum dry cleaners, and coke by-product plants—on the Administrator's own motion. As discussed in the initial list notice (57 FR 31576), we included these categories on the list because at the time, we believed there were major sources in each category, either because they were major sources in their own right or because of collocation with other sources of HAP. Two of these source categories are being deleted because available data indicate that there are no major sources in any of the source categories; the third source category is being deleted because it is already subject to an existing rule.

1. Alumina Processing

The Alumina Processing source category was initially listed in July 1992 based on combustion emission factors for calciners which indicated that hexane and formaldehyde emissions were large enough for some sources to be major. Information collected since the listing indicates that there are four facilities producing alumina in the United States. All of the facilities use the Bayer process to produce alumina, and none of the facilities are major sources of HAP. Emissions data on the facility that produces the most alumina indicate that it uses natural gas as fuel in its calciners, as do two of the other facilities that produce smaller amounts of alumina. The remaining facility uses fuel oil in its calciners and produces about one third the amount of alumina produced by the largest producer and operates only two calciners.

There is no speciation of organic compounds that are emitted from the natural gas boilers or calciners for these facilities, but the data indicate that about 7.5 tons per year of volatile organic compounds (VOC) are emitted from these combustion sources at the largest producing facility. Based on emission factors for combustion sources from the Compilation of Air Pollutant Emission Factors Vol I: Stationary Point and Area Sources (AP-42) (5th Edition), less than 10% of the VOC emitted from natural gas boilers are HAP. Therefore, less than one ton per year of HAP is estimated to be emitted from these combustion sources at the largest facility. Based on the above information, we conclude that the largest facility is not major, and since all of the facilities use the same process, we also conclude that the remaining three facilities are also not major.

2. Dry Cleaning (Petroleum Solvent)

The Dry Cleaning (Petroleum Solvent) source category was initially listed in July 1992 based on engineering calculations which indicated that at least one facility emitted HAP in excess of major source levels. The calculations were based on total facility volatile organic compounds (VOC) emissions information and a 1988 VOC speciation profile for petroleum dry cleaning solvents (i.e., mineral spirit/petroleum naphtha). The HAP identified in the solvent profile included: chlorobenzene, cumene, ethylbenzene, polycyclic organic compounds (POM), toluene, and xylene.

In 1998, we began gathering information to support the maximum achievable control technology (MACT) standards for petroleum solvent dry cleaners. These efforts were focused on obtaining current process and emissions information because information used to support the initial source category listing was more than 10 years old. One task included development of a HAP speciation profile for petroleum solvents currently available to dry cleaners. That information was obtained from leading manufacturers of petroleum dry cleaning solvents. The current HAP content of typical petroleum dry cleaning solvents (0.5 percent by weight) is an order of magnitude or more lower than what was reported in the 1988 speciation profile.

Emissions of HAP petroleum solvent dry cleaners were then conservatively estimated with the revised solvent speciation profile, from the Compilation of Air Pollutant Emission Factors Vol I: Stationary Point and Area Sources (AP-42) (5th Edition) for uncontrolled sources, and typical quantities of clothes cleaned annually by large industrial (SIC 7218) launderers and smaller commercial (SIC 7216) launderers. Our best estimate for a typical, uncontrolled industrial launderer is approximately 0.8 tpy of total HAP (or 0.6 tpy of a single HAP). Estimates for commercial launderers is approximately 0.03 tpy of total HAP (or 0.2 tpy of a single HAP). Based on the above information, it is our conclusion that no petroleum solvent dry cleaning operations emit HAP approaching major source levels.

3. Coke By-Product Plants

The Coke By-Product Plants source category was initially listed in July 1992. The decision to list was based on the fact that coke oven facilities including by-product recovery plants are major sources of HAP. Coke by-product recovery plants are designed and operated for the separation and recovery of coal tar derivatives (by-products) that evolve from coal during the coking process of a coke oven battery. The predominant HAP emitted from coke by-product recovery plants is benzene. Other HAP emitted include naphthalene, phenol, toluene, and xylene. Coke by-product recovery plants are subject to an existing standard (40 CFR part 61, subpart L, National Emission Standard for Benzene Emissions from Coke By-Product Recovery Plants) which was promulgated on September 14, 1980 and amended on September 19, 1991. That standard limits HAP emissions through equipment and work practice standards. Owners/operators are required to enclose and seal all openings on process vessels, tar storage tanks, and tar-intercepting sumps and to duct gases from these sources to a gas collection system for treatment. Since Coke By-Product Plants is a previously regulated source category, section 112(c)(4) of the CAA gives us the discretion to list or not list such source categories.

Since publishing the initial source category list, we have conducted a study to examine the effectiveness of the existing NESHAP for coke by-product recovery plants and concluded that further regulation of this source category is unnecessary. Although the existing standard was developed to control benzene, the standard effectively controls all other emitted HAP. The benzene standard, applicable to all coke by-product recovery plants in the listed source category, would determine the floor for any section 112(d) standard, and furthermore, we know of no realistic “beyond the floor” options at this time.

In summary, further rulemaking would result in no accompanying benefits. Any new standard that we would develop under section 112(d) would be based on and be comparable to the existing standard both in terms of application and level of stringency.

IV. Is This Action Subject to Judicial Review?

Section 112(e)(3) of the CAA states that the determination of priorities for promulgation of standards for the listed source categories is not a rulemaking and is not subject to judicial review, except that failure to promulgate any standard pursuant to the schedule established under section 112(e) shall be subject to review under section 304 of the CAA. Section 112(e)(4) states that, notwithstanding section 307 of the CAA, no action of the Administrator listing a source category or subcategory under section 112(c) shall be a final Agency action subject to judicial review, except that any such action may be reviewed under section 307 when the Administrator issues emission standards for such pollutant or category. Therefore, today's notice is not subject to judicial review.

V. Is EPA Asking for Public Comment?

Prior to issuance of the initial source category list, we published a draft initial list for public comment (56 FR 28548, June 21, 1991). Although we were not required to take public comment on the initial source category list, we believed it was useful to solicit input on a number of issues related to the list. Indeed, in most instances, even where there is no statutory requirement to take comment, we solicit public comments on actions we are contemplating. Section 112(e)(3) requires that we offer opportunity for public comments on the initial source category schedule, which we published as a draft in a September 24, 1992 notice and subsequently published in final form on December 3, 1993. We have decided, however, that it is unnecessary to solicit additional public comment on the revisions reflected in today's notice. Where we believe it is useful to solicit input on certain actions, we will offer interested parties an opportunity to provide comments on proposed individual emission standards.

VI. Administrative Requirements

Today's notice is not a rule; it is essentially an information sharing activity which does not impose regulatory requirements or costs. Therefore, the requirements of Executive Order 13045 (Protection of Children from Environmental Health Risks and Safety Risks), Executive Order 13084 (Consultation and Coordination with Indian Tribal Governments), Executive Order 13132 (Federalism), the Regulatory Flexibility Act, the National Technology Transfer and Advancement Act, and the Unfunded Mandates Reform Act do not apply to today's notice. Also, this notice does not contain any information collection requirements and, therefore, is not subject to the Paperwork Reduction Act, 44 U.S.C. 3501 et seq.

Under Executive Order 12866 (58 FR 51735, October 4, 1993), a regulatory action determined to be “significant” is subject to the Office of Management and Budget (OMB) review and the requirements of the Executive Order. The Order defines “significant” regulatory action as one that is likely to lead to a rule that may either (1) have an annual effect on the economy of $100 million or more, or adversely affect a sector of the economy, productivity, competition, jobs, the environment, public health or safety, or State, local or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order. The OMB has determined that this action is not significant under the terms of Executive Order 12866.

Dated: January 19, 2001.
Robert Perciasepe,
Assistant Administrator for Air and Radiation.

Table 1.—Categories of Sources of Hazardous Air Pollutants and Regulation Promulgation Schedule by Industry Group
[Revision date: January 30, 2001]
Industry group source category \a\ | Statutory promulgation date/Federal Register citation ᵇ
Fuel Combustion:
Combustion Turbines | 11/15/2000.
Engine Test Facilities | 11/15/2000.
Industrial Boilers | 11/15/2000.
Institutional/Commercial Boilers | 11/15/2000.
Process Heaters | 11/15/2000.
Reciprocating Internal Combustion Engines | 11/15/2000.
Rocket Testing Facilities | 11/15/2000.
Stationary Internal Combustion Engines | Renamed, 64FR63025.
Stationary Turbines | Renamed, 64FR63025.
Non-Ferrous Metals Processing:
Lead Acid Battery Manufacturing | Deleted, 61FR28197.
Primary Aluminum Production | 11/15/1997, 62FR52383(F).
Primary Copper Smelting | 11/15/2000, 63FR19582(P), 63FR39326(SP).
Primary Lead Smelting | 11/15/1997, 64FR30194(F).
Primary Magnesium Refining | 11/15/2000.
Secondary Aluminum Production | 11/15/1997, 65FR15689(F), 63FR55491(S), 63FR55489(ap).
Secondary Lead Smelting | 11/15/1994, 60FR32587(F), 61FR27785(A), 61FR65334(A), 62FR32209(A), 63FR45007(A), 64FR4570(A), 64FR69637(A).
Ferrous Metals Processing:
Coke By-Product Plants | 11/15/2000, Deleted as of today.
Coke Ovens: Charging, Top Side, and Door Leaks | 12/31/1992, 58FR57898(F), 59FR01922(C).
Coke Ovens: Pushing, Quenching, and Battery Stacks | 11/15/2000.
Ferroalloys Production | Renamed, 64FR63025.
Ferroalloys Production: Silicomanganese and Ferromanganese | 11/15/1997, 64FR27450(F).
Integrated Iron and Steel Manufacturing | 11/15/2000.
Iron Foundries | 11/15/2000.
Non-Stainless Steel Manufacturing—Electric Arc Furnace (EAF) Operation | Deleted, 61FR28197.
Stainless Steel Manufacturing—Electric Arc Furnace (EAF) Operation | Deleted, 61FR28197.
Steel Foundries | 11/15/2000.
Steel Pickling—HCl Process | Renamed, 64FR63025.
Steel Pickling—HCl Process Facilities and Hydrochloric Acid Regeneration Plants | 11/15/1997, 64FR33202(F).
Mineral Products Processing:
Alumina Processing | 11/15/2000, Deleted as of today.
Asphalt Concrete Manufacturing | 11/15/2000.
Asphalt Processing | 11/15/2000.
Asphalt Roofing Manufacturing | 11/15/2000.
Asphalt/Coal Tar Application—Metal Pipes Chromium Refractories Production | Renamed, 11/15/2000 64FR63025.
Clay Products Manufacturing | 11/15/2000.
Lime Manufacturing | 11/15/2000.
Mineral Wool Production | 11/15/1997, 64FR29490(F).
Portland Cement Manufacturing | 11/15/1997, 64FR31897(F).
Refractories Manufacturing | 11/15/2000.
Taconite Iron Ore Processing | 11/15/2000.
Wool Fiberglass Manufacturing | 11/15/1997, 64FR31695(F).
Petroleum and Natural Gas Production and Refining:
Oil and Natural Gas Production | 11/15/1997, 64FR32610(F).
Natural Gas Transmission and Storage | 11/15/2000, 64FR32610(F).
Petroleum Refineries—Catalytic Cracking (Fluid and other) Units, Catalytic Reforming Units, and Sulfur Plant Units | 11/15/1997, Renamed as of Today.
Petroleum Refineries—Catalytic Cracking Units, Catalytic Reforming Units, and Sulfur Recovery Units | 11/15/1997, 63FR78890(P).
Petroleum Refineries—Other Sources Not Distinctly Listed | 11/15/1994, 60FR43244(F), 61FR07051(C) 61FR29876(C), 62FR07937(A).
Liquids Distribution:
Gasoline Distribution (Stage 1) | 11/15/1994, 59FR42788(N), 59FR64303(F), 60FR07627(C), 60FR32912(C), 60FR43244(A), 60FR57628(C), 60FR62991(S), 61FR07718(A), 61FR58547(N), 62FR09087(A).
Marine Vessel Loading Operations | 11/15/1997, 60FR48399(F).
Organic Liquids Distribution (Non-Gasoline) | 11/15/2000.
Surface Coating Processes:
Aerospace Industries | 11/15/1994, 60FR45956(F) 61FR04903(C) 61FR66227(C) 63FR15016(A) 63FR46525(A) 65FR3642(a).
Auto and Light Duty Truck (Surface Coating) | 11/15/2000.
Flat Wood Paneling (Surface Coating) | Renamed, 64FR63025.
Large Appliance (Surface Coating) | 11/15/2000, Redefined scope, 64FR63025, 65FR81134(P).
Magnetic Tapes (Surface Coating) | 11/15/1994, 59FR64580(F).
Manufacture of Paints, Coatings, and Adhesives | 11/15/2000.
Metal Can (Surface Coating) | 11/15/2000.
Metal Coil (Surface Coating) | 11/15/2000, 63FR44616(P).
Metal Furniture (Surface Coating) | 11/15/2000.
Miscellaneous Metal Parts and Products (Surface Coating) | 11/15/2000.
Paper and Other Webs (Surface Coating) | 11/15/2000, 63FR55332(P).
Plastic Parts and Products (Surface Coating) | 11/15/2000.
Printing, Coating, and Dyeing of Fabrics | 11/15/2000.
Printing/Publishing (Surface Coating) | 11/15/1994, 61FR27132(F).
Shipbuilding and Ship Repair (Surface Coating) | 11/15/1994, 60FR64330(F), 61FR30814(A), 61FR66226(C).
Wood Building Products (Surface Coating) | 11/15/2000.
Wood Furniture (Surface Coating) | 11/15/1994, 60FR62930(F), 62FR30257(C), 62FR31361(A), 63FR71376(A).
Waste Treatment and Disposal:
Hazardous Waste Incineration | 11/15/2000, 64FR52828(F).
Municipal Landfills | 11/15/2000, Renamed as of Today.
Municipal Solid Waste Landfills | 11/15/2000, 63FR66672(P).
Off-Site Waste and Recovery Operations | 11/15/1994, 61FR34140(F), 64FR38950(A).
Publicly Owned Treatment Works (POTW) Emissions \c\ | 11/15/1995, Renamed as of Today.
Publicly Owned Treatment Works (POTW) \c\ | 11/15/1995, 64FR57572(F).
Sewage Sludge Incineration | 11/15/2000.
Site Remediation | 11/15/2000.
Solid Waste Treatment, Storage and Disposal Facilities (TSDF) | Renamed, 59FR51913.
Agricultural Chemicals Production:
Pesticide Active Ingredient Production | 11/15/1997, 64FR33549(F).
4-Chloro-2-Methylphenoxyacetic Acid Production | Subsumed, 64FR63025.
2,4-D Salts and Esters Production | Subsumed, 64FR63025.
4,6-Dinitro-o-Cresol Production | Subsumed, 64FR63025.
Butadiene-Furfural Cotrimer (R-11) Production \d\ | Subsumed, 64FR63025.
Captafol Production \d\ | Subsumed, 64FR63025.
Captan Production \d\ | Subsumed, 64FR63025.
Chloroneb Production | Subsumed, 64FR63025.
Chlorothalonil Production \d\ | Subsumed, 64FR63025.
Dacthal (tm) Production \d\ | Subsumed, 64FR63025.
Sodium Pentachlorophenate Production | Subsumed, 64FR63025.
Tordon (tm) Acid Production \d\ | Subsumed, 64FR63025.
Fibers Production Processes:
Acrylic Fibers/Modacrylic Fibers Production | 11/15/1997, 64FR34853(F), 64FR63695(A), 64FR63702(A), 64FR63779(a).
Rayon Production | 11/15/2000.
Spandex Production | 11/15/2000, 65FR76408(P).
Food and Agriculture Processes:
Baker's Yeast Manufacturing | Renamed, 64FR63025.
Manufacturing of Nutritional Yeast | 11/15/2000, 63FR55812(P).
Cellulose Food Casing Manufacturing | 11/15/2000.
Solvent Extraction for Vegetable Oil Production | 11/15/2000, 63FR34251(P).
Vegetable Oil Production | 11/15/2000, Renamed as of Today.
Pharmaceutical Production Processes
Pharmaceuticals Production \d\ | 11/15/1997, 63FR19151(a), 63FR50280(F).
Polymers and Resins Production
Acetal Resins Production | 11/15/1997, 64FR34853(F), 64FR63695(A), 64FR63702(A), 64FR63779(a).
Acrylonitrile-Butadiene-Styrene Production | 11/15/1994, 61FR48208(F), 61FR54342(C), 61FR59849(N), 62FR01835(A), 62FR37720(A), 63FR9944(C), 63FR67879(N), 64FR11536(A), 64FR35023(S).
Alkyd Resins Production | 11/15/2000.
Amino Resins Production | 11/15/1997, 65FR3275(F).
Boat Manufacturing | 11/15/2000, 63FR43842(P), Redefined scope, 64FR63025.
Butyl Rubber Production | 11/15/1994, 61FR46906(F), 61FR59849(N), 62FR01835(A), 62FR12546(N) 62FR37720(A), 63FR67879(N), 64FR11536(A), 64FR35023(S).
Carboxymethylcellulose Production | 11/15/2000.
Cellophane Production | 11/15/2000.
Cellulose Ethers Production | 11/15/2000.
Epichlorohydrin Elastomers Production | 11/15/1994, 61FR46906(F), 61FR59849(N), 62FR01835(A), 62FR12546(N), 62FR37720(A), 63FR67879(N), 64FR11536(A), 64FR35023(S).
Epoxy Resins Production | 11/15/1994, 60FR12670(F).
Ethylene-Propylene Rubber Production | 11/15/1994, 61FR46906(F), 61FR59849(N), 62FR01835(A), 62FR12546(N), 62FR37720(A), 63FR67879(N), 64FR11536(A), 64FR35023(S).
Flexible Polyurethane Foam Production | 11/15/1997, 64FR34853(F), 62FR05074(C).
Hypalon (tm) Production\d\ | 11/15/1994, 61FR46906(F), 61FR59849(N), 62FR01835(A), 62FR12546(N), 62FR37720(A), 63FR67879(N), 64FR11536(A), 64FR35023(S).
Maleic Anhydride Copolymers Production | 11/15/2000.
Methylcellulose Production | 11/15/2000.
Methyl Methacrylate-Acrylonitrile-Butadiene-Styrene Production \d\ | 11/15/1994, 61FR48208(F), 61FR54342(C), 61FR59849(N), 62FR01835(A), 62FR37720(A), 63FR9944(C), 63FR67879(N), 64FR11536(A), 64FR35023(S).
Methyl Methacrylate-Butadiene-Styrene Terpolymers Production \d\ | 11/15/1994, 61FR48208(F), 61FR54342(C), 61FR59849(N), 62FR01835(A), 62FR37720(A), 63FR9944(C), 63FR67879(N), 64FR11536(A), 64FR35023(S).
Neoprene Production | 11/15/1994, 61FR46906(F), 61FR59849(N), 62FR01835(A), 62FR12546(N), 62FR37720(A), 63FR67879(N), 64FR11536(A), 64FR35023(S).
Nitrile Butadiene Rubber Production | 11/15/1994, 61FR46906(F), 61FR59849(N), 62FR01835(A), 62FR12546(N), 62FR37720(A), 63FR67879(N), 64FR11536(A), 64FR35023(S).
Nitrile Resins Production | 11/15/2000, 61FR48208(F), 61FR54342(C), 61FR59849(N), 62FR01835(A), 62FR37720(A), 63FR9944(C), 63FR67879(N), 64FR11536(A), 64FR35023(S).
Non-Nylon Polyamides Production | 11/15/1994, 60FR12670(F).
Nylon 6 Production | Deleted, 63FR7155.
Phenolic Resins Production | 65FR3275(F).
Polybutadiene Rubber Production ᵈ | 11/15/1994, 61FR46906(F), 61FR59849(N), 62FR01835(A), 62FR12546(N), 62FR37720(A), 63FR67879(N), 64FR11536(A), 64FR35023(S).
Polycarbonates Production ᵈ | 11/15/1997, 64FR34853(F), 64FR63695(A), 64FR63702(A), 64FR63779(a).
Polyester Resins Production | 11/15/2000.
Polyether Polyols Production | 11/15/1997, 64FR29420(F), 64FR31895(C).
Polyethylene Terephthalate Production | 11/15/1994, 61FR48208(F), 61FR54342(C), 61FR59849(N), 62FR01835(A), 62FR30993(A), 62FR37720(A), 63FR9944(C), 63FR15312(A), 63FR67879(N), 64FR11536(A), 64FR30406(A), 64FR30456(N), 64FR35023(S).
Polymerized Vinylidene Chloride Production | 11/15/2000.
Polymethyl Methacrylate Resins Production | 11/15/2000.
Polystyrene Production | 11/15/1994, 61FR48208(F), 61FR54342(C), 61FR59849(N), 62FR01835(A), 62FR37720(A), 63FR9944(C), 63FR67879(N), 64FR11536(A), 64FR35023(S).
Polysulfide Rubber Production ᵈ | 11/15/1994, 61FR46906(F), 61FR59849(N), 62FR01835(A), 62FR12546(N), 62FR37720(A), 63FR67879(N), 64FR11536(A), 64FR35023(S).
Polyvinyl Acetate Emulsions Production | 11/15/2000.
Polyvinyl Alcohol Production | 11/15/2000.
Polyvinyl Butyral Production | 11/15/2000.
Polyvinyl Chloride and Copolymers Production | 11/15/2000, 65FR76958(P).
Reinforced Plastic Composites Production | 11/15/2000.
Styrene-Acrylonitrile Production | 11/15/1994 61FR48208(F), 61FR54342(C), 61FR59849(N), 62FR01835(A), 62FR37720(A), 63FR9944(C), 63FR67879(N), 64FR11536(A), 64FR35023(S).
Styrene-Butadiene Rubber and Latex Production ᵈ | 11/15/1994, 61FR46906(F), 61FR59849(N), 62FR01835(A), 62FR12546(N), 62FR37720(A), 63FR67879(N), 64FR11536(A), 64FR35023(S).
Production of Inorganic Chemicals:
Ammonium Sulfate Production—Caprolactam By-Product Plants | 11/15/2000.
Antimony Oxides Manufacturing | 11/15/1997 Promulgation rescheduled; deleted, 64FR63025.
Carbon Black Production | 11/15/2000, 65FR76408.
Chlorine Production | 11/15/2000.
Chromium Chemicals Manufacturing | Deleted, 61FR28197.
Cyanide Chemicals Manufacturing | 11/15/2000, 65FR76408(P).
Cyanuric Chloride Production | Deleted, 63FR7155.
Fumed Silica Production | 11/15/2000, Corrected, 64FR63025.
Hydrochloric Acid Production | 11/15/2000.
Hydrogen Cyanide Production | Subsumed, 63FR7155.
Hydrogen Fluoride Production | 11/15/1997, 64FR34853(F), 64FR63702(A), 64FR63779(a).
Phosphate Fertilizers Production | 11/15/1997, 64FR31358(F).
Phosphoric Acid Manufacturing | 11/15/1997, 64FR31358(F).
Quaternary Ammonium Compounds Production | Moved, 61FR28197.
Sodium Cyanide Production | Subsumed, 63FR7155.
Uranium Hexafluoride Production: | 11/15/2000.
Production of Organic Chemicals:
Ethylene Processes | 11/15/2000, 65FR76408(P).
Quaternary Ammonium Compounds Production | 11/15/2000.
Synthetic Organic Chemical Manufacturing | 11/15/1992, 59FR19402(F), 59FR29196(A), 59FR32339(N), 59FR48175(C), 59FR53359(S), 59FR54131(S), 60FR05320(A), 60FR18020(A), 60FR18026(A), 60FR63624(C), 61FR31435(A), 61FR07716(A), 61FR43544(N), 61FR64572(A), 62FR02722(A), 63FR67787(A), 64FR20189(C), 65FR3169(a).
Tetrahydrobenzaldehyde Production | Subsumed, 64FR63025, 63FR26078(F).
Miscellaneous Processes:
Aerosol Can-Filling Facilities | 11/15/1997, Promulgation, rescheduled; deleted, 64FR63025.
Benzyltrimethylammonium Chloride Production | 11/15/2000.
Butadiene Dimers Production | Renamed, 61FR28197.
Carbonyl Sulfide Production | 11/15/2000.
Cellulosic Sponge Manufacturing | 11/15/2000, Added 64FR63025.
Chelating Agents Production | 11/15/2000.
Chlorinated Paraffins Production ᵈ | 11/15/2000.
Chromic Acid Anodizing | 11/15/1994, 60FR04948(F), 60FR27598(C), 60FR33122(C), 61FR27785(A), 61FR04463(A), 62FR42918(A).
Commercial Dry Cleaning (Perchloroethylene)—Transfer Machines | 11/15/1992, 58FR49354(F), 58FR66287(A), 60FR64002(A), 61FR27785(A), 61FR49263(A).
Commercial Sterilization Facilities | 11/15/1994, 59FR62585(F), 61FR27785(A), 64FR67789(A), 64FR69637(A).
Decorative Chromium Electroplating | 11/15/1994, 60FR04948(F), 60FR27598(C), 60FR33122(C), 61FR27785(A), 61FR04463(A), 62FR42918(A), 64FR69637(A).
Dodecanedioic Acid Production | Subsumed, 59FR19402.
Dry Cleaning (Petroleum Solvent) | 11/15/2000, Deleted as of today.
Ethylidene Norbornene Production ᵈ | 11/15/2000.
Explosives Production | 11/15/2000.
Flexible Polyurethane Foam Fabrication Operations | 11/15/2000.
Friction Products Manufacturing | 11/15/2000.
Halogenated Solvent Cleaners | 11/15/1994, 59FR61801(F), 59FR67750(C), 60FR29484(C), 63FR24749(S), 63FR68397(A), 64FR45187(A), 64FR56173(A), 64FR67793(A), 64FR69637(A), 64FR67793(A).
Hard Chromium Electroplating | 11/15/1994, 60FR04948(F), 60FR27598(C), 60FR33122(C), 61FR27785(A), 61FR04463(A), 62FR42918(A), 64FR69637(A).
Hydrazine Production | 11/15/2000.
Industrial Cleaning (Perchloroethylene)—Dry-to-dry machines | 11/15/1992, 58FR49354(F), 58FR66287(A), 60FR64002(A), 61FR27785(A), 61FR49263(A).
Industrial Dry Cleaning (Perchloroethylene)—Transfer Machines | 11/15/1992, 58FR49354(F), 58FR66287(A), 60FR64002(A), 61FR27785(A), 61FR49263(A).
Industrial Process Cooling Towers | 11/15/1994, 59FR46339(F).
Leather Finishing Operations | 11/15/2000 63FR58702(P).
Leather Tanning and Finishing Operations | Renamed as of Today.
OBPA/1,3-Diisocyanate Production ᵈ | 11/15/2000.
Paint Stripper Users | Renamed, 64FR63025.
Paint Stripping Operations | 11/15/2000.
Photographic Chemicals Production | 11/15/2000.
Phthalate Plasticizers Production | 11/15/2000.
Plywood and Composite Wood Products | 11/15/2000.
Plywood/Particle Board Manufacturing | Renamed, 64FR63025.
Polyether Polyols Production | Moved, 61FR28197.
Pulp and Paper Production | 11/15/2000, Promulgation, rescheduled, 64FR63025, 63FR18504(F), 63FR42238(C), 63FR49455(A), 63FR71385(A), 64FR17555(A), 65FR3907(a), 65FR80755(F).
Rocket Engine Test Firing | Moved and renamed, 64FR63025.
Rubber Chemicals Manufacturing | 11/15/2000.
Rubber Tire Manufacturing | 11/15/2000, 63FR62414(P).
Semiconductor Manufacturing | 11/15/2000.
Symmetrical Tetrachloropyridine Production ᵈ | 11/15/2000.
Tetrahydrobenzaldehyde Production | Moved, 64FR63025.
Tire Production | Renamed, 64FR63025.
Wood Treatment | Deleted, 61FR28197.
Categories of Area Sources:
Asbestos Processing | Deleted, 60FR61550.
Chromic Acid Anodizing | 11/15/1994, 60FR04948(F), 60FR27598(C), 60FR33122(C), 61FR27785(A), 61FR04463(A), 62FR42918(A), 64FR69637(A).
Commercial Dry Cleaning (Perchloroethylene)—Dry-to-Dry Machines | 11/15/1992, 58FR49354(F), 58FR66287(A), 60FR64002(A), 61FR27785(A), 61FR49263(A), 64FR69637(A).
Commercial Dry Cleaning (Perchloroethylene)—Transfer Machines | 11/15/1992, 58FR49354(F), 58FR66287(A), 60FR64002(A), 61FR27785(A), 61FR49263(A), 64FR69637(A).
Commercial Sterilization Facilities | 11/15/1994, 59FR62585(F), 61FR27785(A), 64FR67789(A), 64FR69637(A).
Decorative Chromium Electroplating | 11/15/1994, 60FR04948(F), 60FR27598(C), 60FR33122(C), 61FR27785(A), 61FR04463(A), 62FR42918(A), 64FR69637(A).
Halogenated Solvent Cleaners | 11/15/1994, 59FR61801(F), 59FR67750(C), 60FR29484(C), 63FR24749(S), 63FR68397(A), 64FR45187(A), 64FR56173(A), 64FR67793(A), 64FR69637(A), 64FR67793(A).
Hard Chromium Electroplating | 11/15/1994, 60FR04948(F), 60FR27598(C), 60FR33122(C), 61FR27785(A), 61FR04463(A), 62FR42918(A), 64FR69637(A).
Hazardous Waste Incineration | 11/15/2000, 64FR52828(F).
Portland Cement Production | 11/15/1997, 64FR31897(F).
Secondary Aluminum Production | 11/15/1997, 65FR15689(F), 63FR55491(S), 63FR55489(ap).
Secondary Lead Smelting | 11/15/1997, 60FR32587(F), 61FR27785(A), 61FR65334(A), 62FR32209(A), 64FR69637(A).
ᵃ Only sources within any category located at a major source shall be subject to emission standards under CAA section 112 unless a finding is made of a threat of adverse effects to human health or the environment for the area sources in a category. All listed categories are exclusive of any specific operations or processes included under other categories that are listed separately.
ᵇ This schedule does not establish the order in which the rules for particular source categories will be proposed or promulgated. Rather, it requires that emissions standards pursuant to CAA section 112(d) for a given source category be promulgated by the specified date.
The markings in the “Statutory Promulgation Date/Federal Register Citation” column of Table 1 denote the following:
(A): final amendment to a final rulemaking action
(a): proposed amendment to a final rulemaking action
(C): correction (or clarification) published subsequent to a proposed or final rulemaking action
(F): final rulemaking action
(N): notice to announce general information, such as an Agency decision, availability of new data, administrative updates, etc.
(P): proposed rulemaking action
(ap): advance notice of proposed rulemaking action
(R): reopening of a proposed action for public comment
(S): announcement of a stay, or partial stay, of the rule requirements
Moved: the source category is relocated to a more appropriate industry group
Subsumed: the source category is included within the definition of another listed category and therefore is no longer listed as a separate source category
Renamed: the title of this source category is changed to a more appropriate title
Deleted: the source category is removed from the source category list
ᶜ The Publicly Owned Treatment Works (POTW) Emissions source category had a statutory deadline for regulatory promulgation of November 15, 1995, as established by CAA section 112(e)(5). However, for purposes of determining the 18-month period applicable to the POTW source category under section 112(j)(2), the promulgation deadline was November 15, 1997. This latter date is consistent with the section 112(e) schedule for the promulgation of emissions standards, as published in the Federal Register on December 3, 1993 (58 FR 63941).
ᵈ Equipment handling specific chemicals for these categories or subsets of these categories is subject to a negotiated standard for equipment leaks contained in the Hazardous Organic NESHAP (HON), which was promulgated on April 22, 1994. The HON includes a negotiated standard for equipment leaks from the SOCMI category and 20 non-SOCMI categories (or subsets of these categories). The specific processes affected within the categories are listed in Section XX.X0(c) of the March 6, 1991 Federal Register notice (56 FR 9315).

[FR Doc. 01-2565 Filed 1-29-01; 8:45 am]

BILLING CODE 6560-50-P